FEDERAL ELECTION COMMISSION

Sunshine Act Meeting

PREVIOUSLY ANNOUNCED DATE AND TIME:

Wednesday, April 5, 2000, 10:00 A.M. Meeting Open to the Public.

The following item was added to the agenda:

Report of the Audit Division on the Missouri Democratic State Committee (A97-102).

Date and Time: Tuesday, April 11, 2000 at 10:00 a.m.

Place: 999 E Street, N.W., Washington, D.C.

STATUS: This Meeting Will be closed to the Public.

ITEMS TO BE DISCUSSED: Compliance matters pursuant to 2 U.S.C. 437g. Audits conducted pursuant to 2 U.S.C. 437g, 438(b), and Title 26, U.S.C.

Matters concerning participation in civil actions or proceedings or arbitration.

Internal personnel rules and procedures or matters affecting a particular employee.

DATE AND TIME: Thursday, April 13, 2000 at 10:00 a.m.

PLACE: 999 E Street, N.W., Washington, D.C. (Ninth Floor).

STATUS: This meeting will be open to the public.

ITEMS TO BE DISCUSSED: Correction and Approval of Minutes. Revisions to Instructions for Forms 3 and 3X.

Administrative Matters.

PERSON TO CONTACT FOR INFORMATION:

Mr. Ron Harris, Press Officer, Telephone: (202) 694-1220.

Mary W. Dove,
Acting Secretary of the Commission.

[FR Doc. 00-8638 Filed 4-4-00; 11:47 am]

BILLING CODE 6715-01-M